DEPARTMENT OF HOMELAND SECURITY

Coast Guard

33 CFR Part 100

[Docket No. USCG-2024-0311]

Special Local Regulations; Marine Events in the Coast Guard Sector Detroit Captain of the Port Zone—April to September 2024

AGENCY: Coast Guard, DHS.

ACTION: Notice of enforcement of regulation.

SUMMARY: The Coast Guard will enforce various special local regulations for annual regattas and marine parades on dates between April 27, 2024, and September 1, 2024, in the Captain of the Port Detroit zone. Enforcement of these regulations is necessary and intended to ensure safety of life on the navigable waters immediately prior to, during, and after these regattas or marine parades. During the aforementioned period, the Coast Guard will enforce restrictions upon, and control movement of, vessels in a specified area immediately prior to, during, and after regattas or marine parades.

DATES: The Coast Guard will enforce the regulations in 33 CFR 100.911 on the dates and times specified in the SUPPLEMENTARY INFORMATION section.

FOR FURTHER INFORMATION CONTACT: If you have questions about this notification of enforcement, call or email Tracy Girard, Prevention Department, U.S. Coast Guard; telephone (313) 568-9564, email Tracy.M.Girard@uscg.mil.

SUPPLEMENTARY INFORMATION: The Coast Guard will enforce multiple safety zones for annual events in the Captain of the Port Detroit Zone listed in 33 CFR 100.911, Table 1 to § 100.911:

(1) Hebda Cup Rowing Regatta Event (Wyandotte, MI)—enforced from 7 a.m. through 3 p.m. on April 27, 2024.

(2) Wy-Hi Rowing Regatta (Wyandotte, MI)—enforced from 7 a.m. through 3 p.m. on May 4, 2024.

(3) Swim Across America (formerly known as Motor City Mile, Detroit, MI)—from 6 a.m. through 12 p.m. on July 12, 2024.

(4) Bay City Grand Prix Powerboat races from 7 a.m. through 7 p.m. from July 12 through July 14, 2024.

(5) St. Clair River Classic Power Boat Race (St. Clair, MI)—from 10 a.m. through 7 p.m. on July 28, 2024.

(6) Detroit Hydrofest Power Boat Race, (Detroit, MI)—from 7 a.m. on August 23, 2024, through 7 p.m. on August 25, 2024.

(7) Michigan Championships Swimming Event (Detroit, MI)—from 7:30 a.m. through 11:30 a.m. on September 1, 2024.

In accordance with the requirements of 33 CFR 100.911, entry into, transiting, or anchoring within these regulated areas during the enforcement periods is prohibited unless authorized by the Coast Guard patrol commander (PATCOM). Those seeking permission to enter the safety zone may request permission from the PATCOM. Vessels permitted to enter this regulated area must operate at a no-wake speed and in a manner that will not endanger race participants or any other craft.

The PATCOM may direct the anchoring, mooring, or movement of any vessel within this regulated area. A succession of sharp, short signals by whistle or horn from vessels patrolling the area under the direction of the PATCOM shall serve as a signal to stop. Vessels so signaled shall stop and shall comply with the orders of the PATCOM. Failure to do so may result in expulsion from the area, a Notice of Violation for failure to comply, or both. Additionally, vessels shall yield right-of-way for event participants and event safety craft and shall follow directions given by the Coast Guard's on-scene representative or by event representatives during the event.

If it is deemed necessary for the protection of life and property, the PATCOM may terminate the marine event or the operation of any vessel within the regulated area.

In accordance with the general regulations in § 100.40, the Coast Guard will patrol the regatta area under the direction of a designated Coast Guard Patrol Commander (PATCOM). The PATCOM, or his designated “on-scene representative”, may be contacted on Channel 16 (156.8 MHz) by the call sign “Coast Guard Patrol Commander.”

This document is issued under authority of 33 CFR 100.35 and 5 U.S.C. 552(a). In addition to this notice of enforcement in the Federal Register, the Coast Guard will provide the maritime community with advance notification of this enforcement period via Broadcast Notice to Mariners or Local Notice to Mariners. If the Captain of the Port determines that any of these special local regulations need not be enforced for the full duration stated in this document, he may suspend such enforcement and notify the public of the suspension via a Broadcast Notice to Mariners.

Dated: April 10, 2024.
Richard P. Armstrong,
Captain, U.S. Coast Guard, Captain of the Port Detroit.

[FR Doc. 2024-08145 Filed 4-16-24; 8:45 am]

BILLING CODE 9110-04-P